ENVIRONMENTAL PROTECTION AGENCY

[ER-FRL-6665-3]

Environmental Impacts Statements; Notice of Availability

Responsible Agency: Office of Federal Activities, General Information (202) 564-7167 or http://www.epa.gov/compliance/nepa/.

Weekly receipt of Environmental Impact Statements

Filed 07/04/2005 through 07/08/2005

Pursuant to 40 CFR 1506.9.

EIS No. 20050283, Final EIS, AFS, NV, Martin Basin Rangeland Project, Authorize Continued Livestock Grazing in Eight Allotments: Martin Basin, Indian, West Side Flat Creek, Buffalo, Bradshaw, Buttermilk, Granite Peak and Rebel Creek Cattle and Horse Allotments, Humboldt-Toiyabe National Forest, Santa Rosa Ranger District, Humboldt County, NV, Wait Period Ends: 08/15/2005, Contact: Jose Noriega (775) 623-5025, Ext. 115.

EIS No. 20050284, Final EIS, BOP, WV, Southern West Virginia Proposed Federal Correctional Institution, Four Alternatives Sites in Southern West Virginia, Boone County, Mingo County, Nicholas County, and McDowell County, WV, Wait Period Ends: 08/15/2005, Contact: Pamela J. Chandler (202) 514-6470.

EIS No. 20050285, Final Supplement, COE, PA, Wyoming Valley Levee Raising Project, Design Modification and Recreational Enhancements, Wilkes-Barre, Pennsylvania River Commons, Susquehanna River, Luzerne County, PA, Wait Period Ends: 08/15/2005, Contact: Jo Ann Grundy (410) 962-6136.

EIS No. 20050286, Final EIS, SFW, ME, Maine Coastal Islands National Wildlife Refuge (formerly Petit Manan National Wildlife Refuge Complex) Comprehensive Conservation Plan, Implementation, the Gulf of Maine, Wait Period Ends: 08/15/2005, Contact: Nancy McGarigal (413) 253-8562.

EIS No. 20050287, Final EIS, BLM, OR, Provolt Seed Orchard Integrated Pest Management (IPM) Program, Implementation, Grants Pass, Medford District, Jackson and Josephine Counties, OR and Charles A. Sprague Seed Orchard Integrated Pest Management Program (IMP), Implementation, Merlin, Medford District, Josephine County, OR, Wait Period Ends: 08/15/2005, Contact: Grodon LyFord (541) 618-2401.

EIS No. 20050288, Final EIS, BLM, OR, Walter H. Horning Seed Orchard Integrated Pest Management Program (IPMO), Implementation, Colton, Salem District, Clackamas County, OR, Wait Period Ends: 08/15/2005, Contact: Terry Garren (503) 630-6888.

EIS No. 20050289, Final EIS, BLM, OR, Travis Tyrrell Seed Orchard Integrated Pest Management (IPM) Program, Implementation, Eugene District, Lorne, Lane County, OR, Wait Period Ends: 08/15/2005, Contact: Glenn Miller (541) 683-6445 Amended Notices.

EIS No. 20050256, Draft EIS, AFS, MT, Beaverhead-Deerlodge National Forest Draft Revised Land and Resource Management Plan, Implementation, Beaverhead, Butte-Silver Bow, Deerlodge, Granite, Jefferson, Madison Counties, MT, Comment Period Ends: 09/30/2005, Contact: Marty Gardner (406) 683-3860. Revision of FR Notice Published 07/01/2005: Correction to CEQ Comment Period Ending 08/15/2005 has been changed to 09/30/2005.

EIS No. 20050268, Draft EIS, NOA, 00, Programmatic—Codified Regulations at 50 CFR 300 Subparts A and G Implementing Conservation and Management Measures Adopted by the Commission for the Conservation of Antarctic Marine Living Resources, Comment Period Ends: 08/15/2005, Contact: Robert B. Gorrell (301) 713-2341. Revision of FR Notice Published 07/01/2005: Correction to Contact Telephone Number.

Dated: July 12, 2005.
Robert W. Hargrove,
Director, NEPA Compliance Division, Office of Federal Activities.

[FR Doc. 05-13973 Filed 7-14-05; 8:45 am]

BILLING CODE 6560-50-P